DEPARTMENT OF LABOR

Employment and Training Administration

[TA-W-61,226]

Delphi Corporation, Automotive Holding Group, Instrument Cluster Plant, Currently Known as General Motors Corporation, Including On-Site Leased Workers From Securitas, EDS, Bartech and Mays Chemicals, Flint, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 15, 2007, applicable to workers of Delphi Corporation, Automotive Holding Group, Instrument Cluster Plant, including on-site leased workers from Securitas, EDS, Bartech and Mays Chemicals, Flint, Michigan. The Department's Notice of determination was published in the Federal Register on May 30, 2007 (72 FR 30033).

At the request of the State agency, the Department reviewed the certification for workers of the subject firm. Workers produced instrumentation displays.

New information shows that January 1, 2009, workers at the subject firm became employees of General Motors Corporation. Some of the workers' wages are being reported under the Unemployment Insurance (UI) tax account for General Motors Corporation.

The intent of the Department's certification is to include all workers of Delphi Corporation, Automotive Holding Group, Instrument Cluster Plant, Flint, Michigan, who were adversely affected by increased imports of instrumentation displays. Therefore, the Department is amending the certification to include workers whose wages are reported to General Motors Corporation.

The amended notice applicable to TA-W-61,226 is hereby issued as follows:

All workers of Delphi Corporation, Automotive Holding Group, Instrument Cluster Plant, currently known as General Motors Corporation, including on-site leased workers from Securitas, EDS, Bartech, and Mays Chemicals, Flint, Michigan, who became totally or partially separated from employment on or after March 30, 2006 through May 15, 2009, are eligible to apply for adjustment assistance under Section 223 of the Trade Act of 1974, and are also eligible to apply for alternative trade adjustment assistance under Section 246 of the Trade Act of 1974.

Signed at Washington, DC, this 17th day of February 2009.
Linda G. Poole,
Certifying Officer, Division of Trade Adjustment Assistance.

[FR Doc. E9-4391 Filed 3-2-09; 8:45 am]

BILLING CODE 4510-FN-P